DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 21, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: SNAP-Ed Intervention Scoring Tool FNS-885 and Intervention Submission Form FNS-886.

OMB Control Number: 0584-0639.

Summary of Collection: The SNAP-Ed Strategies and Interventions: An Obesity Prevention Toolkit for States (SNAP-Ed Toolkit) was developed collaboratively by FNS National and Regional Office SNAP-Ed staff, the National Collaborative on Childhood Obesity Reduction (NCCOR), and the Association of SNAP Nutrition Education Administrators (ASNNA). The SNAP-Ed Toolkit website and resources were recently moved to the SNAP-Ed Connection website to establish SNAP-Ed's online Clearinghouse, which includes evidence-based SNAP-Ed interventions. State agencies can use the evidence-based interventions in the SNAP-Ed Clearinghouse (formerly the SNAP-Ed Toolkit) to locate interventions for their implementation of SNAP-Ed programming.

FNS updated the forms and burden estimates based on consultations with SNAP-Ed State and implementing agency partners, other Federal agencies, and users of the forms. FNS has refined and streamlined the forms, and included additional instructions, questions, or opportunities for response where users, trainers, and FNS partners indicated areas for improvement. FNS has also made wording changes to fix typographical errors and improve readability. Overall, the changes to the forms are focused on form improvements for the end user.

The SNAP-Ed Intervention Submission Form: FNS-886 provides information about the intervention they are submitting for inclusion in the SNAP-Ed Clearinghouse. This information includes intervention materials (such as materials used to develop and test the intervention, evaluation materials, or reports), the intended audience, and the evidence base which illustrates their effectiveness. The FNS-886 captures this information through a combination of multiple-choice boxes and text response areas. Submitters include members of SNAP-Ed State and implementing agencies, researchers from academic institutions and Federal agencies, and non-profit or private sector nutrition education and physical activity intervention developers.

SNAP-Ed Intervention Scoring Tool Form FNS-885, is used to assess and rate each submission. The reviewers' assessments are collected through a combination of numerical and text entry fields.

Need and Use of the Information: FNS collects the SNAP-Ed Intervention Submission Forms and attachments and provides them to intervention reviewers. Reviewers include FNS staff, staff from other Federal agencies, such as the Centers for Disease Control and Prevention (CDC), researchers from academic institutions, and SNAP-Ed State and implementing agency staff.

The SNAP-Ed Intervention Submission Form, FNS-886 (Appendix C), and the SNAP-Ed Intervention Scoring Tool, FNS-885 (Appendix D), provide a uniform and transparent method for submission, review, and scoring of nutrition education, physical activity promotion, and obesity prevention interventions for inclusion in the SNAP-Ed Clearinghouse. SNAP-Ed State and implementing agencies, nutrition education and public health agencies, and other organizations use these voluntary forms to submit interventions for consideration. The SNAP-Ed Intervention Submission Form and Scoring Tool allows SNAP-Ed implementers and the review committee to determine if the intervention submitted for the SNAP-Ed Clearinghouse is evidence-based and uses one or more of the required approaches. These forms support FNS efforts to increase the selection of interventions available in the SNAP-Ed Clearinghouse, improve innovation in service delivery using interventions which reflect the latest research, and respond directly to agencies submitting interventions (submitters) for the SNAP-Ed Clearinghouse.

Description of Respondents: State, Tribal, For profit and non-profit entities.

Number of Respondents: 50.

Frequency of Responses: Reporting: Occasionally; Annually.

Total Burden Hours: 320.

Rachelle Ragland-Greene,
Departmental Information Collection Clearance Officer.

[FR Doc. 2024-21403 Filed 9-18-24; 8:45 am]

BILLING CODE 3410-30-P